DEPARTMENT OF COMMERCE

International Trade Administration

[A-552-802]

Certain Frozen Warmwater Shrimp From the Socialist Republic of Vietnam: Notice of Extension of Time Limit for the Final Results of the Third Administrative Review

AGENCY: Import Administration, International Trade Administration, Department of Commerce.

DATES: Effective Date: August 31, 2009.

FOR FURTHER INFORMATION CONTACT: Irene Gorelik, AD/CVD Operations, Office 9, Import Administration, International Trade Administration, U.S. Department of Commerce, 14th Street and Constitution Avenue, NW., Washington, DC 20230; telephone (202) 482-6905.

Background

On June 4, 2009, the Department of Commerce (“Department”) published a notice extending the deadline for the final results of the administrative review of the antidumping duty order on certain frozen warmwater shrimp from the Socialist Republic of Vietnam (“Vietnam”), covering the period February 1, 2007, through January 31, 2008. See Certain Frozen Warmwater Shrimp from the People's Republic of China and the Socialist Republic of Vietnam: Notice of Extension of Time Limit for the Final Results of the Third Administrative Reviews, 74 FR 26839 (June 4, 2009). On July 22, 2009, the Department published a second notice extending the deadline for the final results of the administrative review. See Certain Frozen Warmwater Shrimp from the People's Republic of China and the Socialist Republic of Vietnam: Notice of Extension of Time Limit for the Final Results of the Third Administrative Reviews, 74 FR 36164 (July 22, 2009). The final results are currently due no later than August 28, 2009.

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published. On June 4 and July 22, 2009, the Department extended the deadline of the final results by a total of 52 days. Thus, the Department may extend the deadline of the final results by an additional eight days.

The Department requires additional time to properly consider the numerous and complex issues raised by interested parties in their case briefs and rebuttal briefs regarding surrogate values for factors of production, numerous company-specific issues, and the separate-rate status for numerous non-mandatory companies.

Thus, it is not practicable to complete these reviews by August 28, 2009. Therefore, the Department is again extending the time limit for completion of the final results of these reviews by eight days, in accordance with section 751(a)(3)(A) of the Act. The final results are now due no later than September 5, 2009.¹

¹ Because September 5, 2009, falls on a Saturday and the following business day, Monday, September 7, 2009, is a Federal holiday, the deadline of the final results falls on Tuesday, September 8, 2009.

We are issuing and publishing this notice in accordance with sections 751(a)(1) and 777(i)(1) of the Act.

Dated: August 25, 2009.
Edward C. Yang,
Acting Deputy Assistant Secretary for Antidumping and Countervailing Duty Operations.

[FR Doc. E9-20986 Filed 8-28-09; 8:45 am]

BILLING CODE 3510-DS-P